Title 3—

The President

Proclamation 10357 of March 31, 2022

Month of the Military Child, 2022

By the President of the United States of America

A Proclamation

Each April, the Month of the Military Child provides a chance for us to recognize and thank the children of our service members and veterans. I have always believed that America has a sacred obligation to prepare our troops when we send them into harm's way and to support them and their families both while they are deployed and after they return home. The First Lady and I recognize that it is not only those who wear the uniform that serve our country—it is also their loved ones, and especially their children. In the timeless words of the poet John Milton, “They also serve who only stand and wait.”

Military-connected children shoulder the burdens of service, facing unique challenges from a young age. They move frequently with their families—leaving friends, schools, and communities behind. They say goodbye to deploying family members, not knowing when they will see them again. Some of these young people endure deployments and separations, spending months or even years away from their beloved parent. Birthdays, holidays, graduations, and other important milestones are celebrated with just a phone call or virtual hug. The First Lady and I witnessed these sacrifices firsthand, when our grandchildren experienced their father's deployment to Iraq.

Even after their parent has left the military, children can continue to face challenges as their parent transitions to civilian life and they may be called on to care for wounds or injuries their parent suffered during their service. Too many live with the pain and loss of a parent or family member who made the ultimate sacrifice in service to our country.

This month—and every month—we share our gratitude for these children. We recognize the hardships they face and commit to supporting the physical, social, and emotional health and safety of their families. That is why the White House's Joining Forces initiative, guided by the First Lady, is focused on supporting the military and veteran families, caregivers, and survivors.

As a symbol of our support and gratitude to our military children, during the Month of the Military Child, the Department of Defense uses the color purple—representing all services in the military community. I encourage Americans everywhere to find ways to support our military-connected children, including by wearing purple to honor their service. Let us recommit ourselves to our sacred obligation to provide our military children and their families with the full support of our communities and our Government.

NOW, THEREFORE, I, JOSEPH R. BIDEN JR., President of the United States of America, by virtue of the authority vested in me by the Constitution and laws of the United States, do hereby proclaim April 2022 as the Month of the Military Child. I call upon the people of the United States to honor military children with appropriate ceremonies and activities.

IN WITNESS WHEREOF, I have hereunto set my hand this thirty-first day of March, in the year of our Lord two thousand twenty-two, and of the Independence of the United States of America the two hundred and forty-sixth.

[FR Doc. 2022-07261

Filed 4-4-22; 8:45 am]

Billing code 3395-F2-P